DEPARTMENT OF AGRICULTURE

Rural Business-Cooperative Service

Notice of Request for Extension of a Currently Approved Information Collection

AGENCY: Rural Business-Cooperative Service, USDA.

ACTION: Proposed collection; comments requested.

SUMMARY: In accordance with the Paperwork Reduction Act of 1995, this notice announces the Rural Business-Cooperative Service's (RBS) intention to request an extension for a currently approved information collection in support of the program for Business and Industry Guaranteed Loans.

DATES: Comments on this notice must be received by April 17, 2006 to be assured of consideration.

FOR FURTHER INFORMATION CONTACT: David Lewis, Business and Industry Loan Servicing Branch, Rural Business-Cooperative Service, U.S. Department of Agriculture, STOP 3224, 1400 Independence Avenue, SW., Washington, DC 20250-3224, telephone (202) 690-0797, or by e-mail to david.lewis@wdc.usda.gov.

SUPPLEMENTARY INFORMATION:

Title: Business and Industry Guaranteed Loan Servicing.

OMB Number: 0570-0016.

Expiration Date of Approval: June 30, 2006.

Type of Request: Extension of Paperwork Burden.

Abstract

The Business and Industry (B&I) program was legislated in 1972 under section 310B of the Consolidated Farm and Rural Development Act, as amended. The purpose of the Business and Industry Guaranteed Loan Program is to improve, develop, or finance business, industry, and employment and to improve the economic and environmental climate in rural communities. This purpose is achieved by bolstering the existing private credit structure through the guarantee of quality loans which will provide lasting community benefits. The lender is responsible for servicing the entire loan and will remain mortgagee and secured party of record notwithstanding the fact that another party may hold a portion of the loan. The B&I servicing regulations are designed to provide regulatory requirements for the lender to adequately service these loans.

Estimate of Burden: Public reporting burden for this collection of information is estimated to average .81 hours per response.

Respondents: 3,450.

Estimated Number of Respondents: 3,450.

Estimated Number of Responses per Respondent: 1.

Estimated Number of Responses: 20,840.

Estimated Total Annual Burden on Respondents: 16,910.

Copies of this information collection can be obtained from Renita Bolden, Regulations and Paperwork Management Branch, at (202) 692-0035.

Comments

Comments are invited on: (a) Whether the proposed collection of information is necessary for the proper performance of the functions of RBS, including whether the information will have practical utility; (b) the accuracy of RBS's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments may be sent to Renita Bolden, Regulations and Paperwork Management Branch, U.S. Department of Agriculture, Rural Development, STOP 0742, 1400 Independence Ave., SW., Washington, DC 20250.

All responses to this notice will be summarized and included in the request for OMB approval. All comments will also become a matter of public record.

Dated: February 8, 2006.
Jackie J. Gleason,
Acting Administrator, Rural Business-Cooperative Service.

[FR Doc. E6-2063 Filed 2-13-06; 8:45 am]

BILLING CODE 3410-XY-P